DEPARTMENT OF JUSTICE

Federal Bureau of Investigation

[OMB Number: 1110-0065]

Agency Information Collection Activities; Proposed eCollection eComments Requested; Extension Without Change of a Currently Approved Collection

AGENCY: Federal Bureau of Investigation, Department of Justice.

ACTION: 60-Day notice.

SUMMARY: The Department of Justice, Federal Bureau of Investigation, Cyber Engagement & Intelligence Section, is submitting the following information collection request to the Office of Management and Budget (OMB) for review and approval in accordance with the Paperwork Reduction Act of 1995.

DATES: The Department of Justice encourages public comment and will accept input until October 5, 2021.

FOR FURTHER INFORMATION CONTACT: If you have additional comments especially on the estimated public burden or associated response time, suggestions, or need a copy of the proposed information collection instrument with instructions or additional information, please contact Kenneth Shelly, Management & Program Analyst, Federal Bureau of Investigation, 935 Pennsylvania Ave. NW, Washington, DC 20535, kwshelly@fbi.gov, 703-633-5772.

SUPPLEMENTARY INFORMATION: Written comments and suggestions from the public and affected agencies concerning the proposed collection of information are encouraged. Your comments should address one or more of the following four points:

➢ Evaluate whether the proposed collection of information is necessary for the proper performance of the functions of the Federal Bureau of Investigation, Cyber Engagement & Intelligence Section, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: Extension, without change, of a currently approved collection.

2. The Title of the Form/Collection: Private Industry Feedback Survey.

3. The agency form number, if any, and the applicable component of the Department sponsoring the collection: There is no agency form number for this collection. The applicable component within the Department of Justice is the Federal Bureau of Investigation, Cyber Engagement & Intelligence Section.

4. Affected public who will be asked or required to respond, as well as a brief abstract: Private sector partners from private industry, non-profit organizations, and state and local government entities are requested to voluntarily respond to the private industry feedback survey. Abstract: The FBI, Cyber Division, is requesting PRA approval of extending approval of an on-line survey to collect feedback information from private sector partners related to FBI cyber trend and threat reports. This collection will be the minimum amount of information needed to improve future reports to better serve the FBI's private sector partners. This collection was previously approved in 2018.

5. An estimate of the total number of respondents and the amount of time estimated for an average respondent to respond: Expected annual responses are 150 and the survey will take 10 minutes to complete.

6. An estimate of the total public burden (in hours) associated with the collection: There are an estimated 25 total annual burden hours associated with this collection. Estimated time spent on reviewing the survey responses in 100 hours.

If additional information is required contact: Melody Braswell, Department Clearance Officer, United States Department of Justice, Justice Management Division, Policy and Planning Staff, Two Constitution Square, 145 N Street NE, 3E.405A, Washington, DC 20530.

Dated: August 3, 2021.
Melody Braswell,
Department Clearance Officer for PRA, U.S. Department of Justice.

[FR Doc. 2021-16852 Filed 8-5-21; 8:45 am]

BILLING CODE 4410-02-P